DEPARTMENT OF ENERGY

Federal Energy Regulatory Commission

[Docket No. CP02-25-000; Docket No. CP02-29-000; Docket No. CP02-30-000]

Copiah County Storage Company; Notice of Application

November 29, 2001.

Take notice that on November 14, 2001, Copiah County Storage Company (Copiah), 5400 Westheimer Court, Houston, Texas 77056-5310, filed in the captioned docket an application for a certificate of public convenience and necessity and related authorizations pursuant to section 7 of the Natural Gas Act, as amended, and the Commission's Rules and Regulations thereunder. Copiah requests authorization for the following:

(i) A certificate of public convenience and necessity pursuant to subpart A of part 157 authorizing Copiah to construct, own, operate, and maintain natural gas storage facilities capable of delivering 300,000 dekatherms per day, consisting of a storage cavern and other associated and appurtenant facilities;

(ii) A blanket construction certificate pursuant to subpart F of part 157 to permit Copiah to construct, acquire and operate additional facilities following construction of the facilities for which authorization under subpart A of part 157 is sought;

(iii) Authorization to provide storage services at market based rates; and

(iv) A blanket certificate pursuant to subpart G of part 284 authorizing Copiah to provide storage and hub services on behalf of others, and approval of the FERC Gas Tariff contained in Exhibit P, pursuant to which Copiah will provide such services consistent with Order Nos. 636 and 637, et seq.,

all as more thoroughly described in the application on file with the Commission and open to public inspection. This filing may be viewed on the web at http://www.ferc.gov using the “RIMS” link, select “Docket#” and follow the instructions (please call (202)208-2222 for assistance).

Copiah further requests that the Commission grant waivers of the following: (i) The requirement pursuant to § 284.7(e) that rates must be designed using a straight-fixed variable rate design methodology; (ii) the requirement pursuant to § 157.6(b)(8) to provide cost of service information necessary for determination of rate treatment; (iii) the requirement pursuant to § 157.14 to include in the application Exhibits K, L, N, and O; (iv) the accounting and reporting requirements under parts 201 and 260.2; (v) the requirement pursuant to § 157.14(a)(10) to provide total gas supply information; and (vi) all other regulations to the extent such waivers may be necessary in order to grant each of the authorizations requested in this application.

Copiah asks the Commission to issue a preliminary determination on non-environmental issues by February 20, 2002, and a final certificate order by July 24, 2002, so that Copiah will be able to commence storage service in February 2004 in order to provide its customers with storage services at the end of the 2003-2004 heating season.

The name, address, and telephone number of the person to whom correspondence and communications concerning this Application should be addressed is: Steven E. Tillman, Director of Regulatory Affairs, Copiah County Storage Company, P.O. Box 1642, Houston, Texas 77251-1642, Phone: (713) 627-5113, Fax: (713) 627-5947.

Copiah proposes to build and operate a natural gas storage facility, the Copiah Storage Project, in Copiah County, Mississippi, collectively referred to as the “Copiah Storage Project.” In this application, Copiah requests authorization to develop the first of two possible caverns on the Copiah site. The proposed project will include the installation of approximately 13,350 horsepower of compression, development of an underground storage cavern, and as many as five common well sites.

The compressor site will provide compression for injection and withdrawal of natural gas to and from storage. The site of the compressor has been proposed to be as close to the cavern and fresh water/brine disposal wells as practical given the existing topography of the site. The compressor building will house three 4,450 HP turbocharged gas engine-driven Ariel reciprocating compressors along with ancillary support and control equipment, to provide a total of approximately 13,350 HP of compression.

The cavern will be created by solution mining using groundwater and will extend approximately 5,500 feet below the ground surface. The cavern that Copiah is seeking authorization to develop in this application, the Primary Cavern, will have an initial working storage capacity of approximately 3.3 billion cubic feet (Bcf), with approximately 300,000 Dekatherms per day (Dth/d) of deliverability capability and approximately 150,000 Dth/d of injection capability. Although Copiah is currently only seeking approval for development of one cavern at this time, Copiah identifies two cavern site locations in its application to allow for an alternative site in the event irreversible drilling problems are encountered at the primary site either due to geology or other complications.

The project also will include a series of wells, piping, valves, instruments, and controls to operate the solution mining and brine disposal activities associated with development of the gas storage cavern. Each well site will contain brine injection and/or freshwater withdrawal wells, along with associated ancillary facilities and service roadways.

The Copiah Storage Project has been designed as a natural gas storage and ultimately a hub services facility for injection, storage, and withdrawal of natural gas. Copiah's request for authorization is based on anticipated demand for its storage and hub services as well as market studies that project substantial growth in natural gas demand in the markets served by Copiah's customers. Due to Copiah's analysis of current and expected growth in demand for storage and hub services in the Gulf Coast region, Copiah anticipates that the Copiah Storage Project will become subscribed as capacity becomes available for service. Copiah states that the interest of the market in these services is reflected in the results of the Copiah open season during which Copiah received non-binding nominations from five potential customers for a total of approximately 6.5 Bcf of natural gas storage. The potential customers indicated an interest in signing contracts with an initial contract term of 5-10 years at the time that the Copiah facilities are close to being placed into service.

Copiah proposes to provide firm and interruptible services, which will enhance shipper options for the transportation and storage of natural gas. Copiah further proposes and requests Commission authorization to charge market-based rates for such services, which Copiah avers is appropriate as demonstrated by the market power study included with the application.

Copiah has identified a pipeline lateral and a meter station that will be owned by a company other than Copiah and constructed in association with the Copiah Storage Project. Texas Eastern will construct, own and maintain an approximately 1.5 miles of 24-inch diameter pipeline lateral connecting Texas Eastern's 30-inch Line 14 in Copiah County, Mississippi to the Copiah Storage Project. In addition, Texas Eastern will construct, own and maintain a bi-directional meter station within the Copiah Storage Project property at a location directly adjacent to the compressor site at the terminus of the interconnection between the Copiah Storage Project and Texas Eastern's proposed 1.5-mile pipeline lateral. Texas Eastern is responsible for all appropriate federal and state filings and permits required for construction and operation of the proposed meter station and pipeline lateral. Texas Eastern has indicated to Copiah that the Texas Eastern meter station and lateral will be constructed pursuant to its blanket authority granted by the Commission in Docket No. CP82-535. Neither Texas Eastern nor Copiah are requesting authority to construct these facilities in the instant Copiah application.

There are two ways to become involved in the Commission's review of this project. First, any person wishing to obtain legal status by becoming a party to the proceedings for this project should, on or before December 19, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests, and interventions may be filed electronically via the internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

David P. Boergers,
Secretary.

[FR Doc. 01-30113 Filed 12-4-01; 8:45 am]

BILLING CODE 6717-01-P